DEPARTMENT OF COMMERCE

National Oceanic and Atmospheric Administration

[I.D. 082401C]

North Pacific Fishery Management Council (NPFMC); Public Meetings

AGENCY: National Marine Fisheries Service (NMFS), National Oceanic and Atmospheric Administration (NOAA), Commerce.

ACTION: Notice of rescheduling and relocation of a public meeting.

SUMMARY: The NPFMC’s Essential Fish Habitat (EFH) Committee, originally scheduled to meet September 18-19, has cancelled that meeting and rescheduled the meeting date and location.

DATES: The meeting will be held on October 4, 2001, from 5 p.m. to 7 p.m.

ADDRESSES: The committee will meet in the Evergreen 1-2 meeting room, at the Doubletree Hotel, Seattle Airport, 18740 Pacific Highway South, Seattle, WA.

FOR FURTHER INFORMATION CONTACT: Cindy Hartmann, NMFS, (907) 586-7585, email: Cindy.Hartmann@noaa.gov; or Cathy Coon, North Pacific Fishery Management Council, (907) 271-2809, e-mail: Cathy.Coon@noaa.gov.

SUPPLEMENTARY INFORMATION: The original notice, (66 FR 45970, August 31, 2001), stated that the meeting would be held on September 18-19, 2001, and the location was in Sitka, AK, at the Northern Southeast Regional Aquaculture Association, 1308 Sawmill Creek Road, in the conference room.

Agenda items for this meeting include:

1. Discussion of NMFS preliminary draft scoping report;

2. Committee recommendations to the Council on significant issues;

3. Discussion of technical teams and their composition; and

4. EFH Committee tasks, timetable and next meeting.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

This meeting is physically accessible to people with disabilities. Requests for sign language interpretation or other auxiliary aids should be directed to Helen Allen, (907) 271-2809, at least 5 working days prior to the meeting date.

All other previously published information remains unchanged.

Dated: September 17, 2001.
Richard W. Surdi,
Acting Director, Office of Sustainable Fisheries, National Marine Fisheries Service.

[FR Doc. 01-23468 Filed 9-17-01; 2:29 pm]

BILLING CODE 3510-22-S